DEPARTMENT OF ENERGY

Federal Energy Regulatory Commission

[Docket No. EL07-51-000]

Texxon Utilities, Ltd. Co.; WCW International, Inc.; Notice of Institution of Proceeding and Refund Effective Date

April 25, 2007.

On April 25, 2007, the Commission issued an order that instituted a proceeding in the above-referenced docket, pursuant to section 206 of the Federal Power Act (FPA), 16 U.S.C. 824e, concerning the justness and reasonableness of the market-based rates of Texxon Utilities, Ltd. Co. and WCW International, Inc.

The refund effective date in the above-docketed proceedings, established pursuant to section 206(b) of the FPA, will be the date of publication of this notice in the Federal Register.

Kimberly D. Bose,
Secretary.

[FR Doc. E7-8334 Filed 5-1-07; 8:45 am]

BILLING CODE 6717-01-P